DEPARTMENT OF AGRICULTURE

Forest Service

Kootenai and Idaho Panhandle National Forests Proposed Land Management Plans

AGENCY: Forest Service, USDA.

ACTION: Commencement of 90-day comment period on the Proposed Land Management Plans for the Kootenai and Idaho Panhandle National Forests.

SUMMARY: Proposed Land Management Plans for the Kootenai and Idaho Panhandle National Forests are now available for public comment during a 90-day period that begins on the date of publication of this notice in Federal Register. The Kootenai and Idaho Panhandle National Forests comprise the KIPZ (Kootenai and Idaho Panhandle Planning Zone.)

ADDRESSES: Comments on the Kootenai Plan should be sent to: KIPZ Forest Plan Revision Team, Kootenai National Forest, 1101 Hwy 2 West, Libby, Montana 59923. Comments on the Idaho Panhandle Plan should be sent to: KIPZ Forest Plan Revision Team, Idaho Panhandle National Forest, 3815 Schreiber Way, Coeur d' Alene, Idaho 83815. Comments by e-mail should be sent to: r1_kipz_revision@fs.fed.us.

DATES: Submit comments during the 90-day period that begins on the date of publication of this notice in the Federal Register. Notices will also appear in the following newspapers of record: For the Kootenai Forest, the Daily Inter Lake and for the Idaho Panhandle National Forest, The Spokesman Review.

FOR FURTHER INFORMATION CONTACT: Kirsten Kaiser at 406-283-7659 or Jodi Kramer at 208-765-7235.

SUPPLEMENTARY INFORMATION: Pursuant to 36 CFR 219.9(b)(2), the Kootenai and Idaho Panhandle National Forests are commencing the comment period on their Proposed Forest Land Management Plans. The Plans are available for viewing and downloading at the Web site: http://www.fs.fed.us/kipz. Compact Discs (CDs) of the Plans will be mailed to persons who have requested a copy and are available to others on request. Plans are also available for viewing at the Supervisors Offices and Ranger Stations on the Kootenai and Idaho Panhandle Forests. Plan supporting documentation (the comprehensive evaluation report) will be posted on the Web site and is available electronically upon request. Comments should be in writing and should meet the following requirements:

1. A statement that the comment is filed during the 90-day comment period, in response to the Kootenai and/or Idaho Proposed Forest Land Management Plan.

2. Identification of the specific Proposed Plan or Plans (Kootenai, Idaho Panhandle) that your comment is addressing.

3. A clear statement of your comment, including reasons, recommendations and supporting information.

Additional guidelines for preparing Plan comments are on our Web site and will be mailed to those requesting a copy.

Scheduled meetings and details of other public involvement opportunities will be posted on the KIPZ Web site: http://www.fs.fed.us/kipz.

The opportunity to object to a Final Plan will be during a 30-day objection period before Plan approval (36 CFR 219.13(a)). Only individuals or organizations, other than a federal agency, who participated in the planning process through the submission of written comments, may object to a Plan.

Please note that all comments, names, and addresses become part of the public record and are subject to the Freedom of Information Act (FOIA), except for proprietary documents and information.

Responsible Officials: Bob Castaneda, Kootenai Forest Supervisor and Ranotta K. McNair, Idaho Panhandle Forest Supervisor.

Dated: May 1, 2006.
Bob Castaneda,
Forest Supervisor, Kootenai National Forest.
Dated: May 1, 2006.
Ranotta K. McNair,
Forest Supervisor, Idaho Panhandle National Forests.

[FR Doc. 06-4307 Filed 5-11-06; 8:45 am]

BILLING CODE 3410-11-M